DEPARTMENT OF LABOR

Employment and Training Administration

[TA-W-55,133]

H E Microwave Corp., Tucson, AZ; Notice of Termination of Investigation

Pursuant to section 221 of the Trade Act of 1974, as amended, an investigation was initiated on June 23, 2004, in response to a worker petition filed by the International Association of Machinists and Aerospace Workers, Local Lodge 933, on behalf of workers at H E Microwave Corporation, Tucson, Arizona.

The petitioner has requested that the petition be withdrawn. Consequently, further investigation would serve no purpose and the investigation has been terminated.

Signed at Washington, DC, this 6th day of July, 2004.
Linda G. Poole,
Certifying Officer, Division of Trade Adjustment Assistance.

[FR Doc. 04-16425 Filed 7-19-04; 8:45 am]

BILLING CODE 4510-30-M